DEPARTMENT OF COMMERCE

International Trade Administration

[A-570-001]

Potassium Permanganate From the People's Republic of China: Final Results of Antidumping Duty Administrative Review; 2014

AGENCY: Enforcement and Compliance, International Trade Administration, Department of Commerce.

SUMMARY: The Department of Commerce (“the Department”) is conducting an administrative review of the antidumping duty order on potassium permanganate from the People's Republic of China (“PRC”). We gave interested parties an opportunity to comment on the Preliminary Results, and based upon our analysis of the comments and information received, we made changes to the margin calculation for these final results. The final dumping margin is listed below in the “Final Results of the Administrative Review” section of this notice. The period of review (“POR”) is January 1, 2014, through December 31, 2014.

DATES: Effective August 25, 2016.

FOR FURTHER INFORMATION CONTACT: Paul Walker, AD/CVD Operations, Office V, Enforcement and Compliance, International Trade Administration, U.S. Department of Commerce, 14th Street and Constitution Avenue NW., Washington, DC 20230; telephone 202.482.0413.

SUPPLEMENTARY INFORMATION:

Background

The Department published the Preliminary Results on February 10, 2015.¹ This review covers one respondent, Pacific Accelerator Limited (“PAL”).² Between July 15-20, 2016, PAL and Petitioner submitted case and rebuttal briefs.³ On August 3, 2016, the Department held a hearing limited to issues raised in the case and rebuttal briefs.

¹ See Potassium Permanganate from the People's Republic of China: Preliminary Results of Antidumping Duty Administrative Review; 2013, 81 FR 7751 (February 16, 2016) (“Preliminary Results”).

² See Initiation of Antidumping and Countervailing Duty Administrative Reviews and Request for Revocation in Part, 79 FR 11401 (February 28, 2014).

³ See PAL's July 15, 2016 and July 20, 2016 submissions; Petitioner's July 15, 2016 and July 20, 2016 submissions.

Scope of the Order

Imports covered by this order are shipments of potassium permanganate, an inorganic chemical produced in free-flowing, technical, and pharmaceutical grades. Potassium permanganate is currently classifiable under item 2841.61.00 of the Harmonized Tariff Schedule of the United States (“HTSUS”). Although the HTSUS item number is provided for convenience and customs purposes, the written description of the merchandise remains dispositive.

Analysis of Comments Received

All issues raised in the case and rebuttal briefs by parties in this review are addressed in the I&D Memo.⁴ A list of the issues which parties raised is attached to this notice as an appendix. The I&D Memo is a public document and is on file in the Central Records Unit (“CRU”), Room B8024 of the main Department of Commerce building, as well as electronically via Enforcement and Compliance's Antidumping and Countervailing Duty Centralized Electronic Service System (“ACCESS”). ACCESS is available to registered users at http://access.trade.gov and to all users in the CRU. In addition, a complete version of the I&D Memo can be accessed directly on the Internet at http://enforcement.trade.gov/frn/index.html. The signed I&D Memo and the electronic version are identical in content.

⁴ See Memorandum to Paul Piquado, Assistant Secretary for Enforcement and Compliance, from Christian Marsh, Deputy Assistant Secretary for Antidumping and Countervailing Duty Operations, “Potassium Permanganate from the People's Republic of China: Issues and Decision Memorandum for the Final Results,” dated concurrently with and hereby adopted by this notice (“I&D Memo”).

Changes Since the Preliminary Results

Based on a review of the record and comments received from interested parties regarding our Preliminary Results, and for the reasons explained in the I&D Memo, we revised the margin calculation for PAL. Specifically, we made an adjustment to PAL's U.S. price for the irrecoverable value-added tax which was not rebated to PAL's PRC producer upon the export of the subject merchandise.

Final Results of the Review

The dumping margins for the final results of this administrative review are as follows:

⁵ Consistent with Comment V in the I&D Memo, the Department has determined that it will calculate per-unit assessment and cash deposit rates.

Exporter | Weighted-average margin (dollars/kilogram) ⁵
PAL | 2.88

Disclosure

The Department will disclose calculations performed for these final results to the parties within five days of the date of publication of this notice, in accordance with section 351.224(b) of the Department's regulations.

Assessment Rates

Pursuant to section 751(a)(2)(A) of the Act and 19 CFR 351.212(b), the Department will determine, and CBP shall assess, antidumping duties on all appropriate entries of subject merchandise in accordance with the final results of this review. The Department intends to issue appropriate assessment instructions directly to CBP 15 days after publication of the final results of this administrative review.

In accordance with 19 CFR 351.212(b)(1), we are calculating importer- (or customer-) specific assessment rates for the merchandise subject to this review. For assessment purposes, we calculated a per-unit rate for each importer (or customer) by dividing the total dumping margins for reviewed sales to that party by the total sales quantity associated with those transactions. We will direct CBP to assess the resulting per-unit rate against the entered quantity of the subject merchandise.⁶ We will instruct CBP to assess antidumping duties on all appropriate entries covered by this review when the importer- (or customer-) specific assessment rate is above de minimis. Where an importer- (or customer-) specific assessment rate is zero or de minimis, we will instruct CBP to liquidate the appropriate entries without regard to antidumping duties.

⁶ See Antidumping Proceedings: Calculation of the Weighted-Average Dumping Margin and Assessment Rate in Certain Antidumping Proceedings: Final Modification, 77 FR 8101, 8103 (February 14, 2012).

Cash Deposit Requirements

The following cash deposit requirements will be effective upon publication of the final results of this administrative review for all shipments of the subject merchandise entered, or withdrawn from warehouse, for consumption on or after the publication date of the final results, as provided for by section 751(a)(2)(C) of the Act: (1) For the exporter listed above, the cash deposit rate will be the rate established in the final results of review; (2) for previously investigated or reviewed PRC and non-PRC exporters not listed above that have separate rates, the cash deposit rate will continue to be the exporter-specific rate published for the most recent period; (3) for all PRC exporters of subject merchandise that have not been found to be entitled to a separate rate, the cash deposit rate will be that for the PRC-wide entity, which is 128.94 percent; ⁷ and (4) for all non-PRC exporters of subject merchandise which have not received their own rate, the cash deposit rate will be the rate applicable to the PRC exporter that supplied that non-PRC exporter. The cash deposit requirements, when imposed, shall remain in effect until further notice.

⁷ See Potassium Permanganate from the People's Republic of China; Final Results of Antidumping Duty Administrative Review, 59 FR 26625 (May 23, 1994).

Notification to Importers Regarding the Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties occurred and the subsequent assessment of doubled antidumping duties.

Notification Regarding Administrative Protective Order

This notice also serves as a reminder to parties subject to administrative protective order (“APO”) of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

We are issuing and publishing this administrative review and notice in accordance with sections 751(a)(l) and 777(i) of the Act.

Dated: August 15, 2016
Paul Piquado,
Assistant Secretary for Enforcement and Compliance.

Appendix

List of Topics Discussed in the Final Decision Memorandum

Summary

Background

Scope of the Order

Discussion of the Issues

Comment I Surrogate Country

Comment II Surrogate Value for Manganese Ore/Manganese Dioxide

Comment III Surrogate Financial Ratios

Comment IV Treatment of Value Added Tax

Comment V Application of Adverse Facts Available to PAL

Recommendation

[FR Doc. 2016-20423 Filed 8-24-16; 8:45 am]

BILLING CODE 3510-DS-P